FEDERAL ELECTION COMMISSION

Sunshine Act Notices

AGENCY: Federal Election Commission:

Date and Time: Thursday, September 25, 2003 at 10 a.m.

Place: 999 E Street, NW., Washington, DC (Ninth floor).

Status: This meeting will be open to the public.

Items to be Discussed: Correction and approval of minutes.

Draft Advisory Opinion 2003-21: Lehman Brothers Inc. by counsel, Kenneth A. Gross and Ki P. Hong.

Routine Administrative Matters.

For Further Information Contact: Mr. Ron Harris, Press Officer, Telephone: (202) 694-1220.

Mary W. Dove,
Secretary of the Commission.

[FR Doc. 03-24163 Filed 9-17-03; 3:04 pm]

BILLING CODE 6715-01-P